DEPARTMENT OF AGRICULTURE

Farm Service Agency

[Docket ID FSA-2023-0020]

Notice; Emergency Relief Program 2022 (ERP 2022)

AGENCY: Farm Service Agency, USDA.

ACTION: Notice.

SUMMARY: The Farm Service Agency (FSA) is issuing this notice to announce the actions it is taking to comply with a preliminary injunction related to payment calculations for ERP 2022.

FOR FURTHER INFORMATION CONTACT: Kathy Sayers; telephone: (202) 720-6825; email: kathy.sayers@usda.gov. Individuals who require alternative means for communication should contact the USDA Target Center at (202) 720-2600 (voice and text telephone (TTY)) or dial 711 for Telecommunications Relay service (both voice and text telephone users can initiate this call from any telephone).

SUPPLEMENTARY INFORMATION:

Background

FSA announced ERP 2022 in a notice published in the Federal Register on October 21, 2023 (88 FR 74404-74419). The application period for ERP 2022 began on October 31, 2023.¹ On June 7, 2024, the United States District Court for the Northern District of Texas, Amarillo Division, issued a preliminary injunction in Rusty Strickland et al. v. U.S. Dept. of Agriculture et al. (Case No. 2:24-CV-60-Z) enjoining USDA “from making or increasing payments, or providing any additional relief, based on its `socially disadvantaged farmer or rancher' designation under [ERP 2022], whether used directly or as a subset of its `underserved farmer or rancher' designation.” ²

¹ The current deadlines to submit ERP 2022 applications and eligibility documentation were announced on July 15, 2024. See https://www.fsa.usda.gov/news-room/news-releases/2024/usda-announces-august-14-application-deadline-for-emergency-relief-program-assistance-for-commodity-and-specialty-crop-producers-impacted-by-2022-natural-disasters.

² As defined in the October 21, 2023, Notice of Funds Availability, “socially disadvantaged farmer or rancher” means a farmer or rancher who is a member of a group whose members have been subjected to racial, ethnic, or gender prejudice because of their identity as members of a group without regard to their individual qualities. For entities, at least 50 percent of the ownership interest must be held by individuals who are members of such a group. Socially disadvantaged groups include the following and no others unless approved in writing by the Deputy Administrator:

(1) American Indians or Alaskan Natives;

(2) Asians or Asian-Americans;

(3) Blacks or African Americans;

(4) Hispanics or Hispanic Americans;

(5) Native Hawaiians or other Pacific Islanders; and

(6) Women.

“Underserved farmer or rancher” means a beginning farmer or rancher, limited resource farmer or rancher, socially disadvantaged farmer or rancher, or veteran farmer or rancher.

The Notice of Funds Availability includes the following provisions related to the payment calculations that were applicable only to underserved farmers or ranchers:

• For Track 1, the payment calculation provides a refund of an underserved farmer or rancher's share of the premium and fee for crop insurance or Noninsured Crop Disaster Assistance Program coverage; and

• For Track 2, the payment calculation provides an increase to an underserved farmer or rancher's payment that is equal to 15 percent of the gross Track 2 payment after progressive factoring, not to exceed the calculated Track 2 payment before progressive factoring.

Upon issuance of the preliminary injunction, and in order to comply with the preliminary injunction, FSA took action to immediately halt ERP 2022 payments while FSA evaluated the scope of changes that would be required. This notice announces that FSA is resuming issuance of ERP 2022 payments; however, consistent with the preliminary injunction, payments to socially disadvantaged farmers or ranchers will be subject to a modified payment calculation that does not include the refund of premiums and fees under Track 1 or the 15 percent increase under Track 2 described above. If the preliminary injunction is lifted, with available funds, FSA will make or update payments to affected and eligible socially disadvantaged producers consistent with the terms of the Notice of Funds Availability.

Some ERP 2022 payments may continue to be delayed due to the need to modify payment software to accommodate these changes, but FSA intends to begin issuing payments again in late August to eligible producers.

Zach Ducheneaux,
Administrator, Farm Service Agency.

[FR Doc. 2024-18993 Filed 8-22-24; 8:45 am]

BILLING CODE 3410-05-P